DEPARTMENT OF DEFENSE

Defense Acquisition Regulations System

[OMB Control Number 0704-0250]

Information Collection Requirement; Defense Federal Acquisition Regulation Supplement; Contract Administration

AGENCY: Defense Acquisition Regulations System, Department of Defense (DoD).

ACTION: Notice and request for comments regarding a proposed extension of an approved information collection requirement.

SUMMARY: In compliance with section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection for use through February 28, 2006. DoD proposes that OMB extend its approval for use for 3 additional years.

DATES: DoD will consider all comments received by March 20, 2006.

ADDRESSES: You may submit comments, identified by OMB Control Number 0704-0250, using any of the following methods:

• Federal eRulemaking Portal: http://www.regulations.gov. Follow the instructions for submitting comments.

• E-mail: dfars@osd.mil. Include OMB Control Number 0704-0250 in the subject line of the message.

• Fax: (703) 602-0350.

• Mail: Defense Acquisition Regulations System, Attn: Ms. Deborah Tronic, OUSD(AT&L)DPAP(DARS), IMD 3C132, 3062 Defense Pentagon, Washington, DC 20301-3062.

• Hand Delivery/Courier: Defense Acquisition Regulations System, Crystal Square 4, Suite 200A, 241 18th Street, Arlington, VA 22202-3402.

Comments received will be posted without change to http://www.regulations.gov, including any personal information provided.

FOR FURTHER INFORMATION CONTACT: Ms. Deborah Tronic, at (703) 602-0289. The information collection requirements addressed in this notice are available via the Internet at: http://www.acq.osd.mil/dpap/dars/dfars/index.htm. Paper copies are available from Ms. Deborah Tronic, OUSD(AT&L)DPAP(DARS), IMD 3C132, 3062 Defense Pentagon, Washington, DC 20301-2062.

SUPPLEMENTARY INFORMATION: Title, Associated Form, and OMB Number: Defense Federal Acquisition Regulation Supplement (DFARS) Part 242, Contract Administration, and related clauses in DFARS Part 252; DD Form 1659, Application for U.S. Government Shipping Documentation/Instructions; OMB Control Number 0704-0250.

Needs and Uses: DoD needs this information to perform contract administration functions. DoD uses the information as follows:

a. Contract administration offices use the information required by DFARS Subpart 242.11 to determine contractor progress and to identify any factors that may delay contract performance.

b. Administrative contracting officers use the information required by DFARS Subpart 242.73 to determine the allowability of insurance/pension costs under Government contracts.

c. Contract administration offices and transportation officers use the information required by DFARS 252.242-7003, and submitted on DD Form 1659, in providing Government bills of lading to contractors.

d. Contracting officers use the information required by DFARS 252.242-7004 to determine if contractor material management and accounting systems conform to established DoD standards.

Affected Public: Businesses or other for-profit and not-for-profit institutions.

Annual Burden Hours: 276,773.

Number of Respondents: 15,049.

Responses Per Respondent: Approximately 7.

Annual Responses: 105,748.

Average Burden Per Response: Approximately 3 hours.

Frequency: On occasion.

Summary of Information Collection

This information collection includes requirements relating to DFARS Part 242, Contract Administration.

a. DFARS Subpart 242.11 requires DoD contract administration personnel to conduct production reviews to determine contractor progress and to identify any factors that may delay contract performance. Contractors must provide information needed to support the reviews and must submit production progress reports.

b. DFARS Subpart 242.73 contains requirements for Government conduct of contractor insurance/pension reviews. Contractors must provide documentation needed to support the reviews.

c. DFARS 252.242-7003 requires contractors to request Government bills of lading by submitting DD Form 1659 to the transportation officer or the contract administration office.

d. DFARS 252.242-7004 requires contractors to establish, maintain, disclose, and demonstrate material management and accounting systems.

Michele P. Peterson,
Editor, Defense Acquisition Regulations System.

[FR Doc. E6-389 Filed 1-13-06; 8:45 am]

BILLING CODE 5001-08-P